DEPARTMENT OF HOMELAND SECURITY

Federal Emergency Management Agency

[Docket ID FEMA-2014-0002; Internal Agency Docket No. FEMA-B-1457]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 16, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1457, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: November 24, 2014.
Roy E. Wright,
Deputy Associate Administrator for Mitigation, Department of Homeland Security, Federal Emergency Management Agency.

I. Watershed-based studies:

Harpeth Watershed
Community | Community map repository address
Cheatham County, Tennessee, and Incorporated Areas
Maps Available for Inspection Online at: http://www.fema.gov/preliminaryfloodhazarddata
Town of Kingston Springs | Town Hall, 396 Spring Street, Kingston Springs, TN 37082.
Town of Pegram | Town Hall, 308 Highway 70, Pegram, TN 37143.
Unincorporated Areas of Cheatham County | Cheatham County Floodplain Administrator's Office, 264 South Main Street, Ashland City, TN 37015.
Dickson County, Tennessee, and Incorporated Areas
Unincorporated Areas of Dickson County | Dickson County Director of Planning and Zoning, 4 Court Square, Charlotte, TN 37036.
Williamson County, Tennessee, and Incorporated Areas
City of Brentwood | City Hall, 5211 Maryland Way, Brentwood, TN 37027.
City of Fairview | City Hall, 7100 City Center Circle, Fairview, TN 37062.
City of Franklin | City Hall, Code Department, 109 3rd Avenue South, Franklin, TN 37064.
Unincorporated Areas of Williamson County | Williamson County Complex, Planning Department, 1320 West Main Street, Suite 125, Franklin, TN 37064.

II. Non-watershed-based studies:

Community | Community map repository address
Logan County, Colorado, and Incorporated Areas
Maps Available for Inspection Online at: http://www.fema.gov/preliminaryfloodhazarddata
City of Sterling | Planning and Zoning Division, 421 North 5th Street, Sterling, CO 80751.
Town of Crook | Planning and Zoning Department, 315 Main Street, Suite 2, Sterling, CO 80751.
Town of Fleming | Planning and Zoning Department, 315 Main Street, Suite 2, Sterling, CO 80751.
Town of Iliff | Planning and Zoning Department, 315 Main Street, Suite 2, Sterling, CO 80751.
Town of Merino | Planning and Zoning Department, 315 Main Street, Suite 2, Sterling, CO 80751.
Town of Peetz | Planning and Zoning Department, 315 Main Street, Suite 2, Sterling, CO 80751.
Unincorporated Areas of Logan County | Planning and Zoning Department, 315 Main Street, Suite 2, Sterling, CO 80751.
Granite County, Montana, and Incorporated Areas
Maps Available for Inspection Online at: http://www.fema.gov/preliminaryfloodhazarddata
Town of Drummond | Town Hall, 114 A Street, Drummond, MT 59832.
Town of Philipsburg | Town Hall, 104 South Sansome, Philipsburg, MT 59858.
Unincorporated Areas of Granite County | Granite County Courthouse, 220 North Sansome, Philipsburg, MT 59858.

[FR Doc. 2014-29437 Filed 12-15-14; 8:45 am]

BILLING CODE 9110-12-P